NUCLEAR REGULATORY COMMISSION

[Docket No. 52-016; NRC-2008-0250]

Notice of Availability of the Draft Environmental Impact Statement for the Combined License for Calvert Cliffs Nuclear Power Plant Unit 3

Notice is hereby given that the U.S. Nuclear Regulatory Commission (NRC) and the U.S. Army Corps of Engineers, Baltimore District, have published NUREG-1936, “Environmental Impact Statement for the Combined License (COL) for Calvert Cliffs Nuclear Power Plant Unit 3: Draft Report for Comment.” The site is located in Calvert County, Maryland, along the western shore of the Chesapeake Bay. Part 1 of the application for the COL was submitted by letter dated July 7, 2007, pursuant to Title 10 of the Code of Federal Regulations (10 CFR) Part 52 and 10 CFR 2.101(a)(5). A notice of acceptance for docketing of Part 1 of the COL application was published in the Federal Register on January 31, 2008 (73 FR 5877). A notice of intent to prepare a draft environmental impact statement (DEIS) and to conduct the scoping process was published in the Federal Register on February 14, 2008 (73 FR 8719). Part 2 of the COL application was submitted by letter dated March 14, 2008, and a notice of acceptance for docketing for Part 2 was published in the Federal Register on June 9, 2008 (73 FR 32606). A COL is an authorization to construct and (with specified conditions) operate a nuclear power plant at a specific site, in accordance with established laws and regulations.

The purpose of this notice is to inform the public that NUREG-1936, “Environmental Impact Statement for the Combined License (COL) for Calvert Cliffs Nuclear Power Plant Unit 3: Draft Report for Comment,” is available for public inspection. The DEIS can be accessed

(1) online at http://www.nrc.gov/reactors/new-reactors/col/calvert-cliffs.html, (2) in the U.S. NRC Public Document Room (PDR) located at One White Flint North, 11555 Rockville Pike (first floor), Public File Area O1-F21, Rockville, Maryland 20852, or (3) from the NRC Agencywide Documents Access and Management System (ADAMS). ADAMS is accessible from the NRC Web site at http://www.nrc.gov/reading-rm/adams.html. The accession numbers for the DEIS are ML101000012 and ML101000013. Persons who do not have access to ADAMS, or who encounter problems in accessing the documents located in ADAMS, should contact the PDR reference staff at 1-800-397-4209, or 301-415-4737, or by e-mail to pdr.resource@nrc.gov. In addition, the Calvert Library Prince Frederick, located at 850 Costley Way, Prince Frederick, Maryland, and Calvert Library Southern Branch, located at 20 Appeal Lane, Lusby, Maryland, have agreed to make the DEIS available to the public.

Any interested party may submit comments on the DEIS for consideration by the NRC staff. Comments may be accompanied by additional relevant information or supporting data. This draft report is being issued with a 75-day comment period. The comment period begins on the date that the U.S. Environmental Protection Agency publishes a Notice of Filing in the Federal Register which is expected to be April 23, 2010. Such notices are published every Friday. The notice will identify the end date of the comment period. Members of the public may submit comments on the DEIS by (1) e-mail, (2) mail, or (3) during the public meeting on the DEIS. Comments submitted via e-mail should be sent to CalvertCliffsCOLAEIS@nrc.gov. Electronic submissions should be sent no later than the end date of the comment period. Written comments on the DEIS should be mailed to the Chief, Rules and Directives Branch, Division of Administrative Services, Office of Administration, Mailstop TWB-05-B01M, U.S. Nuclear Regulatory Commission, Washington, DC 20555-0001, or by fax at 301-492-3446, and should cite the publication date and page number of this Federal Register Notice. Comments submitted in writing or in electronic form will be posted on the NRC Web site and on the Federal rulemaking Web site Regulations.gov. The NRC requests that any party soliciting or aggregating comments received from other persons for submission to the NRC inform those persons that the NRC will not edit their comments to remove any identifying or contact information, and therefore, they should not include any information in their comments that they do not want publicly disclosed. To be considered, written comments should be postmarked by the end date of the comment period. Any comments of any Federal, State, and local agencies, Indian tribes or other interested persons will be made available for public inspection when received.

The NRC and Corps staff will hold two public meetings to present an overview of the DEIS and to accept public comments on the document on Tuesday, May 25, 2010, at the Holiday Inn Select, 155 Holiday Drive, Solomons, Maryland. The first meeting will convene at 1 p.m. and will continue until 4 p.m. as necessary. The second meeting will convene at 7 p.m., with a repeat of the overview portions of the first meeting, and will continue until 10 p.m. as necessary. The meetings will be transcribed and will include a presentation of the contents of the DEIS, and the opportunity for interested government agencies, organizations, and individuals to provide comments on the draft report. To be considered, comments must be provided during the transcribed public meeting either orally or in writing. Additionally, the NRC and Corps staff will host informal discussions 1 hour before the start of each meeting during which members of the public may meet and talk with NRC and Corps staff members on an informal basis. No formal comments on the DEIS will be accepted during these informal discussions.

Persons may pre-register to attend or present oral comments at the meeting by contacting Ms. Laura Quinn by telephone at 1-800-368-5642, Extension 2220, or by e-mail at CalvertCliffsCOLAEIS@nrc.gov no later than May 19, 2010. Members of the public may also register to speak at the meeting within 15 minutes of the start of the meeting. Individual oral comments may be limited by the time available depending on the number of persons who register. Members of the public who have not registered may also have an opportunity to speak, if time permits. Ms. Laura Quinn will need to be contacted no later than May 19, 2010, if special equipment or accommodations are needed to attend or present information at the public meeting, so that the NRC staff can determine whether the request can be accommodated.

FOR FURTHER INFORMATION CONTACT: Ms. Laura Quinn, Environmental Projects Branch 2, U.S. Nuclear Regulatory Commission, Mail Stop T7-E30, Washington, DC 20555-0001. Ms. Quinn may also be contacted at the aforementioned telephone number or e-mail address.

Dated at Rockville, Maryland, this 15 day of April 2010.
For the Nuclear Regulatory Commission.
Scott Flanders,
Director, Division of Site and Environmental Reviews, Office of New Reactors.

[FR Doc. 2010-9159 Filed 4-20-10; 8:45 am]

BILLING CODE 7590-01-P